DEPARTMENT OF THE INTERIOR

Bureau of Reclamation

[RR04093000, XXXR4081X3, RX.05940913.FY19400]

Public Meeting of the Glen Canyon Dam Adaptive Management Work Group

AGENCY: Bureau of Reclamation, Interior.

ACTION: Notice of public meeting.

SUMMARY: In accordance with the Federal Advisory Committee Act of 1972, the Bureau of Reclamation (Reclamation) is publishing this notice to announce a public meeting of the Glen Canyon Dam Adaptive Management Work Group (AMWG).

DATES: The meeting will be held on Wednesday, August 19, 2020, from 9:30 a.m. (MDT) to approximately 5:00 p.m. (MDT); and Thursday, August 20, 2020, from 9:30 a.m. (MDT) to approximately 4:00 p.m. (MDT).

ADDRESSES: A teleconference may substitute for an in-person meeting depending on local health restrictions. Additional information about the meeting, including the agenda or changes to the meeting's format can be found at the AMWG website: https://www.usbr.gov/uc/progact/amp/amwg.html.

FOR FURTHER INFORMATION CONTACT: Ms. Lee Traynham; telephone (801) 524-3752; email at ltraynham@usbr.gov.

SUPPLEMENTARY INFORMATION: The Glen Canyon Dam Adaptive Management Program (GCDAMP) was implemented as a result of the Record of Decision on the Operation of Glen Canyon Dam Final Environmental Impact Statement to comply with consultation requirements of the Grand Canyon Protection Act (Pub. L. 102-575) of 1992. The AMWG makes recommendations to the Secretary of the Interior concerning Glen Canyon Dam operations and other management actions to protect resources downstream of Glen Canyon Dam, consistent with the Grand Canyon Protection Act.

Agenda: The AMWG will meet to receive updates on: (1) Current basin hydrology and operations; (2) the draft GCDAMP budget and workplan for fiscal years 2021-2023; (3) planned or ongoing experiments in 2020; and (4) an update from the GCDAMP Tribal Liaison. The AMWG will also discuss other administrative and resource issues pertaining to the GCDAMP. To view a copy of the agenda and documents related to the above meeting, please visit Reclamation's website at https://www.usbr.gov/uc/progact/amp/amwg.html.

Meeting Accessibility/Special Accommodations: The meeting is open to the public. Individuals requiring special accommodations to access the public meeting should contact Ms. Lee Traynham (see FOR FURTHER INFORMATION CONTACT) at least (5) business days prior to the meeting so appropriate arrangements can be made.

Public Disclosure of Comments: Time will be allowed at the meeting for any individual or organization wishing to make extemporaneous and/or formal oral comments. To allow for full consideration of information by the AMWG members, written comments should be provided to Ms. Lee Traynham (see FOR FURTHER INFORMATION CONTACT) at least five (5) business days prior to the meeting. Written comments will be provided to the AMWG members.

Before including your address, phone number, email address, or other personal identifying information in your comment, you should be aware that your entire comment—including your personal identifying information—may be made publicly available at any time. While you can ask us in your comment to withhold your personal identifying information from public review, we cannot guarantee that we will be able to do so.

Lee Traynham,
Chief, Adaptive Management Work Group, Resources Management Division, Upper Colorado Basin—Interior Region 7.

[FR Doc. 2020-15843 Filed 7-21-20; 8:45 am]

BILLING CODE 4332-90-P